DEPARTMENT OF HOMELAND SECURITY

Federal Emergency Management Agency

[Docket ID FEMA-2015-0001; Internal Agency Docket No. FEMA-B-1510]

Proposed Flood Hazard Determinations

AGENCY: Federal Emergency Management Agency; DHS.

ACTION: Notice; correction.

SUMMARY: On May 6, 2015, FEMA published in the Federal Register a proposed flood hazard determination notice that contained erroneous tables. This notice provides corrections to those tables, to be used in lieu of the information published at 80 FR 26068-26070. The tables provided here represent the proposed flood hazard determinations and communities affected for Lee County, Florida, and Incorporated Areas and San Patricio County, Texas, and Incorporated Areas.

DATES: Comments are to be submitted on or before October 26, 2015.

ADDRESSES: The Preliminary Flood Insurance Rate Map (FIRM), and where applicable, the Flood Insurance Study (FIS) report for each community are available for inspection at both the online location and the respective Community Map Repository address listed in the table below. Additionally, the current effective FIRM and FIS report for each community are accessible online through the FEMA Map Service Center at www.msc.fema.gov for comparison.

You may submit comments, identified by Docket No. FEMA-B-1510, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064 or (email) Luis.Rodriguez3@fema.dhs.gov; or visit the FEMA Map Information eXchange (FMIX) online at www.floodmaps.fema.gov/fhm/fmx_main.html.

SUPPLEMENTARY INFORMATION: FEMA proposes to make flood hazard determinations for each community listed in the table below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at http://floodsrp.org/pdfs/srp_fact_sheet.pdf.

The communities affected by the flood hazard determinations are provided in the table below. Any request for reconsideration of the revised flood hazard determinations shown on the Preliminary FIRM and FIS report that satisfies the data requirements outlined in 44 CFR 67.6(b) is considered an appeal. Comments unrelated to the flood hazard determinations will also be considered before the FIRM and FIS report are made final.

Correction

In the proposed flood hazard determination notice published at 80 FR 26068-26070 in the May 6, 2015, issue of the Federal Register, FEMA published tables titled “Lee County, Florida, and Incorporated Areas” and “San Patricio County, Texas, and Incorporated Areas”. These tables contained inaccurate information as to the community name for the Unincorporated Areas of Lee County and the community map repository address for the City of San Patricio. In this document, FEMA is publishing the tables containing the accurate information. The information provided below should be used in lieu of that previously published.

(Catalog of Federal Domestic Assistance No. 97.022, “Flood Insurance.”)

Dated: July 17, 2015.
Roy E. Wright,
Deputy Associate Administrator for Insurance and Mitigation, Department of Homeland Security, Federal Emergency Management Agency.

Community | Community map repository address
Lee County, Florida, and Incorporated Areas
Maps Available for Inspection Online at: http://www.fema.gov/preliminaryfloodhazarddata
Project: 14-04-A039S Preliminary Date: December 15, 2014
City of Fort Myers | Development Department, 1825 Hendry Street, Suite 101, Fort Myers, FL 33901.
Unincorporated Areas of Lee County | Lee County Community Development Department, 1500 Monroe Street, Second Floor, Fort Myers, FL 33901.
San Patricio County, Texas, and Incorporated Areas
Maps Available for Inspection Online at: http://www.fema.gov/preliminaryfloodhazarddata
Project: 07-06-0112S Preliminary Dates: August 29, 2014 and January 16, 2015
City of Aransas Pass | City Hall, 600 West Cleveland Boulevard, Aransas Pass, TX 78336.
City of Gregory | City Hall, 204 West 4th Street, Gregory, TX 78359.
City of Ingleside | City Hall Annex, 2665 San Angelo Street, Ingleside, TX 78362.
City of Ingleside On The Bay | Ingleside On The Bay City Hall, 475 Starlight Drive, Ingleside, TX 78362.
City of Lake City | City Hall, 132 Cox Drive, Lake City, TX 78368.
City of Lakeside | Community Center, 101 Weber Lane, Lakeside, TX 78368.
City of Mathis | City Hall, 411 East San Patricio Avenue, Mathis, TX 78368.
City of Odem | City Hall, 514 Voss Avenue, Odem, TX 78370.
City of Portland | Public Works, 1101 Moore Drive, Portland, TX 78374.
City of San Patricio | City Hall, 4516 Main Street, San Patricio, TX 78368.
City of Sinton | City Hall, 301 East Market Street, Sinton, TX 78387.
City of Taft | City Hall, 501 Green Avenue, Taft, TX 78390.
Unincorporated Areas of San Patricio County | San Patricio County Civic Center, 219 West 5th Street, Sinton, TX 78387.

[FR Doc. 2015-18279 Filed 7-24-15; 8:45 am]

BILLING CODE 9110-12-P